DEPARTMENT OF HOUSING AND URBAN DEVELOPMENT

[Docket No. FR-7070-N-44]

30-Day Notice of Proposed Information Collection: PRO Housing Competition Application Collection; OMB Control No.: 2506-New

AGENCY: Office of Policy Development and Research, Chief Data Officer, HUD.

ACTION: Notice.

SUMMARY: HUD is seeking approval from the Office of Management and Budget (OMB) for the information collection described below. In accordance with the Paperwork Reduction Act, HUD is requesting comment from all interested parties on the proposed collection of information. The purpose of this notice is to allow for an additional 30 days of public comment.

DATES: Comments Due Date: August 31, 2023.

ADDRESSES: Interested persons are invited to submit comments regarding this proposal. Written comments and recommendations for the proposed information collection should be sent within 30 days of publication of this notice to www.reginfo.gov/public/do/PRAMain. Find this particular information collection by selecting “Currently under 30-day Review—Open for Public Comments” or by using the search function. Interested persons are also invited to submit comments regarding this proposal and comments should refer to the proposal by name and/or OMB Control Number and should be sent to: Colette Pollard, Clearance Officer, REE, Department of Housing and Urban Development, 451 7th Street SW, Room 8210, Washington, DC 20410-5000; email PaperworkReductionActOffice@hud.gov.

FOR FURTHER INFORMATION CONTACT: Colette Pollard, Reports Management Officer, REE, Department of Housing and Urban Development, 7th Street SW, Room 8210, Washington, DC 20410; email at Colette.Pollard@hud.gov or telephone 202-402-3400. This is not a toll-free number. HUD welcomes and is prepared to receive calls from individuals who are deaf or hard of hearing, as well as individuals with speech or communication disabilities. To learn more about how to make an accessible telephone call, please visit https://www.fcc.gov/consumers/guides/telecommunications-relay-service-trs.

Copies of available documents submitted to OMB may be obtained from Ms. Pollard.

SUPPLEMENTARY INFORMATION: This notice informs the public that HUD is seeking approval from OMB for the information collection described in Section A.

The Federal Register notice that solicited public comment on the information collection for a period of 60 days was published on May 22, 2023 at 88 FR 32782.

A. Overview of Information Collection

Title of Information Collection: PRO Housing Competition Application Collection.

OMB Approval Number: 2506-New.

Type of Request: New Collection.

Form Number: N/A.

Description of the need for the information and proposed use: HUD is issuing this NOFO under the authority of the Consolidated Appropriations Act, 2023 (Pub. L. 117-328, enacted December 29, 2022) (Appropriations Act) for the identification and removal of barriers to affordable housing production and preservation. The most successful proposals in this competition will demonstrate not only how applicants identify and remove affordable housing barriers within their jurisdiction(s), but also demonstrate: (1) progress and a commitment to overcoming local barriers to facilitate the increase in affordable housing production and preservation; and (2) an acute demand for housing affordable to households with incomes below 100 percent of the area median income. HUD encourages applicants to also consider how their proposed activities will address issues related to affordable housing production and preservation, such as advancing equity, locating affordable housing near transit and other services, and developing and preserving affordable housing in accordance with input from community members and other stakeholders.

Respondents: State and local governments, Metropolitan Planning Organizations and Multijurisdictional Entities.

Estimated Number of Respondents: 100.

Estimated Number of Responses: 100.

Frequency of Response: 1.

Average Hours per Response: 11.

Total Estimated Burdens: 1100.

The estimated burden for this NOFO application collection includes HUD's Standardized Grant Application forms which have been reviewed and approved by OMB under control number: 2501-0017. Additionally, as stated above, OMB has reviewed and approved the post award activity for CDBG activities under control numbers: 2506-0077, 0085, 0117, and 0165. The burden hours and requirements under the above-mentioned approved collections have not been altered in any way. Applicants are asked to provide narrative responses detailing their proposed activities using PRO Housing funding. Applicants are also required to affirmatively acknowledge the statutorily required certification, located in Appendix D of the NOFO. HUD is collecting certifications from all applicants, and there is a specific certification form depending on each applicant type: local governments, state governments, metropolitan planning organizations and multijurisdictional entities. Each applicant is only required to complete one certification form. The certification form collects information related to a variety of laws, including CDBG requirements and cross-cutting requirements. The applicant will be expected to review and sign the form.

If an applicant is proposing a partnership with one or more entities as part of their application submission, the applicant must provide documentation of that partnership in the form of partner letters from each partner and a partnership agreement. The burden hours include submission of documentation of partnership, if required. Optional partnership templates are included in the application package, which applicants may choose to use to satisfy these requirements.

The burden hours associated with the above-mentioned forms have been included in the burden hours list below.

Table 1—Estimated Public Burden
Information collection | Number of respondents | Frequency of response | Responses per annum | Burden hour per response | Annual burden hours | Hourly cost per response * | Annual cost
NOFO Application | 100 | 1 | 100 | 10 | 1000 | $38.92 | $38,920
NOFO Certifications | 100 | 1 | 100 | 1 | 100 | 38.92 | 3,892
Total | 100 | 1 | 100 | 11 | 1100 | 38.92 | 42,812
* Given that the nature of the applicants is unknown at this time, HUD estimates the cost per response to average around OPMs supplied GS-13 base pay level (locality pay not included). While NOFO applicants may vary in experience, pay, and possibly industry, HUD believes that the average range of pay across the respondents will fall closely within the GS-13 pay range.

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected;

(4) Ways to minimize the burden of the collection of information on those who are to respond; including through the use of appropriate automated collection techniques or other forms of information technology, e.g., permitting electronic submission of responses; and

(5) Ways to minimize the burden of the collection of information on those who are to respond, including the use of automated collection techniques or other forms of information technology.

HUD encourages interested parties to submit comment in response to these questions.

C. Authority

Section 3507 of the Paperwork Reduction Act of 1995, 44 U.S.C. chapter 35.

Colette Pollard,
Department Reports Management Officer, Office of Policy Development and Chief Data Officer.

[FR Doc. 2023-16283 Filed 7-31-23; 8:45 am]

BILLING CODE 4210-67-P